DEPARTMENT OF COMMERCE

National Oceanic and Atmospheric Administration

50 CFR Part 648

[Docket No. 121009528-2729-02]

RIN 0648-XD026

Fisheries of the Northeastern United States; 2014 Commercial Summer Flounder Quota Adjustments

AGENCY: National Marine Fisheries Service (NMFS), National Oceanic and Atmospheric Administration (NOAA), Commerce.

ACTION: Announcement of 2014 commercial summer flounder state quotas.

SUMMARY: NMFS is announcing the commercial summer flounder state quotas for fishing year 2014. The 2014 summer flounder specifications were established in December 2012. This notice incorporates any previously unaccounted for overages from fishing year 2012 and any known overages to date from fishing year 2013. These commercial state quotas may change as a result of a recent stock assessment and a recommendation by the Mid-Atlantic Fishery Management Council.

DATES: Effective January 1, 2014, through December 31, 2014.

FOR FURTHER INFORMATION CONTACT: Moira Kelly, Fishery Policy Analyst, (978) 281-9218.

SUPPLEMENTARY INFORMATION:

Background

The Mid-Atlantic Fishery Management Council (Council) and the Atlantic States Marine Fisheries Commission cooperatively manage the summer flounder, scup, and black sea bass fisheries. Specifications in these fisheries include the acceptable biological catch (ABC) limit, various catch and landing subdivisions (such as the commercial and recreational sector annual catch limits (ACLs)), annual catch targets (ACTs), sector-specific landing limits (i.e., the commercial fishery quota and recreational harvest limit (RHL)), and research set-aside (RSA) established for the upcoming fishing year. Typically, these specifications are set on an annual basis and announced in the Federal Register in December of each year. Because the summer flounder stock assessment was scheduled for July 2013 and the normal specification schedule would be delayed, the Council established specifications for the 2014 summer flounder fishery in December 2012 (December 31, 2012; 77 FR 76942). These specifications included the initial state allocations, as well as the state allocations after adjusting for RSA.

An important component of the annual specifications rulemaking is the notification of the commercial summer flounder state quota and overages. Overages are calculated using final landings data from the previous fishing year and landings from the current fishing year through October 31. In this case, previously unaccounted for overages from fishing year 2012 are combined with known overages from fishing year 2013, through October 31, 2013. As a result, the 2014 summer flounder state quotas, adjusted for RSA and overages, are as follows:

Table 1—2014 Commercial Summer Flounder State Quotas, as Adjusted by Overages and RSA
| FMP percent share | 2014 Initial quota |  | 2014 Initial quota, less RSA |  | Quota overages (through 10/31/13) |  | Adjusted 2014 quota, less RSA and overages
State |  | lb | kg | lb | kg | lb | kg | lb | kg
ME | 0.04756 | 5,579 | 2,533 | 5,417 | 2,457 | 0 | 0 | 5,417 | 2,457
NH | 0.00046 | 54 | 24 | 52 | 24 | 0 | 0 | 52 | 24
MA | 6.82046 | 800,091 | 363,242 | 776,788 | 352,345 | 28,199 | 12,791 | 748,589 | 339,554
RI | 15.68298 | 1,839,732 | 835,240 | 1,786,147 | 810,183 | 0 | 0 | 1,786,147 | 810,183
CT | 2.25708 | 264,772 | 120,207 | 257,061 | 116,601 | 0 | 0 | 257,061 | 116,601
NY | 7.64699 | 897,050 | 407,261 | 870,922 | 395,044 | 79,355 | 35,995 | 791,587 | 359,058
NJ | 16.72499 | 1,961,967 | 890,735 | 1,904,823 | 864,013 | 0 | 0 | 1,904,823 | 864,013
DE | 0.01779 | 2,087 | 947 | 2,026 | 919 | 52,384 | 23,760 | −50,358 | −22,842
MD | 2.03910 | 239,202 | 108,598 | 232,235 | 105,340 | 0 | 0 | 232,235 | 105,340
VA | 21.31676 | 2,500,616 | 1,135,282 | 2,427,783 | 1,101,224 | 0 | 0 | 2,427,783 | 1,101,224
NC | 27.44584 | 3,219,604 | 1,461,703 | 3,125,829 | 1,417,852 | 0 | 0 | 3,125,829 | 1,417,852
Total | 100.00 | 11,730,754 | 5,326,000 | 11,389,082 | 5,166,000 | 155,376 | 70,476 | 11,284,065 | 5,118,366

On October 9, 2013, the Council met to discuss whether adjustments to the previously established 2014 specifications were necessary as a result of the updated stock assessment, and to establish fishing year 2015 specifications for the summer flounder, scup, and black sea bass fisheries. The Council determined that an adjustment was necessary for the 2014 summer flounder specifications. Table 2 below summarizes the established 2014 summer flounder specifications, as well as the specifications that the Council voted to recommend in October 2013. The Council has not yet submitted the specifications package to be reviewed by NMFS; nor has NMFS made a determination that these adjustments would be implemented. The state quotas listed in Table 1 will be in effect until and unless otherwise changed through proposed and final rulemaking.

Table 2—Summer Flounder 2014 Specifications and Council Recommended 2014 Specifications
| 2014 Specifications: million lb | 2014 Specifications: mt | October 2013 council recommended 2014 specifications: million lb | October 2013 council recommended 2014 specifications: mt
ABC | 22.24 | 10,088 | 21.94 | 9,950
Commercial ACL | 12.05 | 5,467 | 12.87 | 5,837
Recreational ACL | 10.19 | 4,621 | 9.07 | 4,113
Commercial ACT | 12.05 | 5,467 | 12.87 | 5,837
Recreational ACT | 10.19 | 4,621 | 9.07 | 4,113
Comm. Quota (less 3% for RSA) | 11.39 | 5,166 | 10.51 | 4,767
RHL (less 3% for RSA) | 7.59 | 3,444 | 7.01 | 3,178

Authority: 16 U.S.C. 1801 et seq.

Dated: December 23, 2013.
Emily H. Menashes,
Deputy Director, Office of Sustainable Fisheries, National Marine Fisheries Service.

[FR Doc. 2013-31070 Filed 12-26-13; 8:45 am]

BILLING CODE 3510-22-P